Title 3—

The President

Proclamation 9865 of April 25, 2019

World Intellectual Property Day, 2019

By the President of the United States of America

A Proclamation

On World Intellectual Property Day, we celebrate the essential role of innovation in the strength and expansion of our economy. Our free market continues to unleash the imagination of our Nation's talented creators, inventors, and entrepreneurs, enabling them to develop products that improve and elevate lives across our country and around the world. To maintain and reinforce our economic competitiveness, we must protect intellectual property and related technologies so that new industries and innovations can flourish.

Since the founding, our Nation's incredible intellectual property system has empowered Americans to make discoveries that have helped us live healthy, prosperous, and enjoyable lives. My Administration is determined to build on our country's strong tradition of protecting intellectual property. Last year, I signed the Orrin G. Hatch-Bob Goodlatte Music Modernization Act, which will improve our protection of the creative genius of America's extraordinary musicians. This groundbreaking legislation modernizes our outdated copyright laws so that artists and songwriters are justly compensated for the online use of their music. Additionally, my Administration negotiated the new United States-Mexico-Canada Agreement (USMCA), modernizing the North American Free Trade Agreement into a 21st century, high-standard agreement. The USMCA includes the strongest and most comprehensive intellectual property standards of any prior free trade agreement. Once approved by the Congress, the USMCA will deliver comprehensive protections against misappropriation of trade secrets, robust border enforcement, and enhanced trademark, copyright, and patent provisions that are critical to driving innovation, creating economic growth, and supporting American jobs. Earlier this month, I also issued a memorandum directing my Cabinet to combat trafficking in counterfeit and pirated goods in online marketplaces.

We must stop those actors who engage in unfair and unscrupulous practices, including nation states that sponsor the theft of American intellectual property. To protect our economic and national security, my Administration is taking aggressive action to enforce both our laws and a fair and reciprocal trade policy. For example, a critical part of our ongoing negotiations with China includes putting an end to the hundreds of billions of dollars of intellectual property we lose to China each year. Protecting the innovations, creations, and inventions that power our country are vital to our economic prosperity and national security.

The theme of this year's World Intellectual Property Day is intellectual property in sports. Intellectual property is critical to advancing the ability of our athletes to compete and increasing the enjoyment of sports for fans. We celebrate the innovations of those working behind the scenes to create new sports equipment, enhance safety, improve branding, and broadcast sporting events. From new materials that preserve athlete health and promote performance to game-changing technological advances in robotics and artificial intelligence, intellectual property underpins the sports industry.

Today, we recognize that the success of nearly every industry, from entertainment and sports to agriculture and technology, depends on a framework that protects intellectual property. A brighter and more hopeful future is dawning because of the increased attention nations are paying to innovation, creativity, and intellectual property. As the human mind continues to transcend limitations, we will work to empower the creative spirit of today's innovators by protecting their hard work.

NOW, THEREFORE, I, DONALD J. TRUMP, President of the United States of America, by virtue of the authority vested in me by the Constitution and the laws of the United States, do hereby proclaim April 26, 2019, as World Intellectual Property Day. I encourage Americans to observe this day with events and educational programs that celebrate the benefits of intellectual property to our economy and our country.

IN WITNESS WHEREOF, I have hereunto set my hand this twenty-fifth day of April, in the year of our Lord two thousand nineteen, and of the Independence of the United States of America the two hundred and forty-third.

[FR Doc. 2019-09105

Filed 5-1-19; 8:45 am]

Billing code 3295-F9-P